DEPARTMENT OF COMMERCE

National Oceanic and Atmospheric Administration

Agency Information Collection Activities; Submission to the Office of Management and Budget (OMB) for Review and Approval; Comment Request; American Lobster—Annual Trap Transfer Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 20, 2023.

ADDRESSES: Interested persons are invited to submit written comments to Adrienne Thomas, NOAA PRA Officer, at NOAA.PRA@noaa.gov. Please reference OMB Control Number 0648-0673 in the subject line of your comments. Do not submit Confidential Business Information or otherwise sensitive or protected information.

FOR FURTHER INFORMATION CONTACT: Requests for additional information or specific questions related to collection activities should be directed to Douglas Potts, Fishery Policy Analyst, 978-281-9341 or Douglas.Potts@noaa.gov.

SUPPLEMENTARY INFORMATION:

I. Abstract

This request is for an extension of a currently approved information collection.

The American lobster resource and fishery are cooperatively managed by the states and NMFS under the authority of the Atlantic Coastal Fisheries Cooperative Management Act, according to the framework established by the Atlantic States Marine Fisheries Commission (ASMFC) in Amendment 3 of its Interstate Fishery Management Plan (ISFMP). This collection of information is in response to several addenda to Amendment 3 of the ISFMP that work to reduce trap fishing effort through limited entry fishing and trap allocation limit reductions. The Trap Transfer Program is intended to foster economic flexibility for the lobster industry while reducing fishing effort on the American lobster resource. The regulations implementing the FMP in the EEZ are specified at 50 CFR part 697.

This collection of information is being conducted to help mitigate the economic burden of scheduled trap allocation reductions in Lobster Conservation Management Areas 2 and 3 on Federal lobster permit holders through the Annual Lobster Trap Transfer Program, which allows all qualified Federal lobster permit holders to buy and sell trap allocation from Areas 2, 3, or Outer Cape Cod. NMFS collects application forms from Lobster permit holders who wish to transfer trap allocation from these areas during a 2-month period (from August 1 through September 30) each year; and the revised allocations resulting from the transfers become effective for each participating lobster permit at the start of the following Federal lobster fishing year, on May 1. Both the seller and buyer of the traps are required to sign the application form, date the document, and clearly show that the seller has sufficient allocation to transfer and that the buyer has sufficient room under the applicable trap cap. There were no modifications to this collection.

II. Method of Collection

Applications for the Trap Transfer Program are accepted annually from August 1 through September 30 by mail or email.

III. Data

OMB Control Number: 0648-0673.

Form Number(s): None.

Type of Review: Regular submission (extension of a current information collection).

Affected Public: Individuals or households; business or other for-profit organizations; State, local, or Tribal government; Federal Government.

Estimated Number of Respondents: 204.

Estimated Time per Response: 10 minutes.

Estimated Total Annual Burden Hours: 17.

Estimated Total Annual Cost to Public: $492.

Respondent's Obligation: Required to obtain or retain benefits.

Legal Authority: Atlantic Coastal Fisheries Cooperative Management Act (16 U.S.C. 5101 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personally identifying information—may be made publicly available at any time. While you may ask us in your comment to withhold your personally identifying information from public review, we cannot guarantee that we will be able to do so.

Sheleen Dumas,
Department PRA Clearance Officer, Office of the Under Secretary for Economic Affairs, Commerce Department.

[FR Doc. 2023-08441 Filed 4-20-23; 8:45 am]

BILLING CODE 3510-22-P